FEDERAL COMMUNICATIONS COMMISSION

Notice of Public Information Collection(s) Being Reviewed by the Federal Communications Commission, Comments Requested

May 13, 2010.

SUMMARY: The Federal Communications Commission, as part of its continuing effort to reduce paperwork burden invites the general public and other Federal agencies to take this opportunity to comment on the following information collection(s), as required by the Paperwork Reduction Act (PRA) of 1995, 44 U.S.C. 3501 - 3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden on small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before July 19, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via email to PRA@fcc.gov.

FOR FURTHER INFORMATION CONTACT: Judith B. Herman, Office of Managing Director, (202) 418-0214. For additional information, contact Judith B. Herman, OMD, 202-418-0214, or email judith-b.herman@fcc.gov.

SUPPLEMENTARY INFORMATION: OMB Control Number: 3060-0398.

Title: Sections 2.948 and 15.117(g)(2), Equipment Authorization Measurement Standards.

Form No.: N/A.

Type of Review: Revision of a currently approved collection.

Respondents: Business or other for-profit.

Number of Respondents and Responses: 725 respondents; 725 responses.

Estimated Time Per Response: 5 - 30 hours.

Frequency of Response: On occasion and other three year reporting requirements and recordkeeping requirement.

Obligation to Respond: Required to obtain or retain benefits. Statutory authority for this information collection is contained in 47 U.S.C. sections 4(i), 302, 303(c), 303(f), 303(g), 303(r), and 309(a).

Total Annual Burden: 21,160 hours.

Total Annual Cost: N/A.

Privacy Act Impact Assessment: N/A.

Nature and Extent of Confidentiality: There is minimal exemption from the Freedom of Information Act (FOIA), 5 U.S.C. 552(b)(4), and 47 CFR 0.459(d) of the Commission's rules, that is granted for trade secrets, which may be submitted to the Commission as part of the documentation of the test results. No other assurances of confidentiality are provided to respondents.

Needs and Uses: The Commission will submit this information collection as a revision to the Office of Management and Budget (OMB) after this comment period to obtain the full three year clearance from them. There is a change in the Commission's burden estimates. The 60 hour program change increase is due to the new reporting requirement which is discussed further below. There is also a 12,000 hour adjustment increase in burden which reflects the significant number of laboratories filing test site descriptions. This increase has been observed in the recent past, and is in large part due to Mutual Recognition Agreements (MRAs) signed with various foreign economic entities, by testing facilities filing site descriptions under Section 2.948, prior to submittal of equipment for authorization.

The revision for this information collection is as follows: On September 14, 2009, the Commission's Office of Engineering and Technology (OET) identified and requested comment on certain types of information that an applicant should provide to be considered an accreditation body of test laboratories under the Commission's rules, see DA 09-2049. Under the Commission's rules, section 2.948(d) sets forth the requirements for accreditation bodies seeking recognition from the FCC as a laboratory accreditation body. Accreditation bodies seeking such recognition from the Commission must file a report of their qualifications with the OET. They are only required to file this information once. The Commission currently has two recognized accreditation bodies, and is about to recognize a third. Additional accreditation bodies may be recognized.

The currently OMB-approved requirements for this information collection requires that each Electro-Magnetic Compatibility (EMC) testing facility that performs equipment testing in support of any request for equipment authorization to file a test site description, either with the Commission or with a Commission-approved accrediting body.

The test site description and the supporting information documents that the EMC testing facility complies with the testing standards used to make the measurements that support any request for equipment authorization.

In addition, the referenced 47 CFR Part 15 rules require that equipment manufacturers insert in their files a statement explaining the basis on which it relies to ensure that at least 97.5% of all production units of the test sample that are manufactured have a noise figure of no greater than 14 dB.

The Commission or the accrediting body uses the information from these test sites and supporting documentation, which accompany all requests for equipment authorization: 1) to ensure that the data are valid and that proper testing procedures are used;

2) to ensure that potential interference to radio communications is controlled; and

3) to investigate complaints of harmful interference or to verify the manufacturer's compliance with 47 CFR rule sections 2.948and 15.117(g)(2) of the Commission's rules.

Federal Communications Commission.
Marlene H. Dortch,
Secretary,
Office of the Secretary,
Office of Managing Director.

[FR Doc. 2010-11827 Filed 5-17-10; 8:45 am]

BILLING CODE 6712-01-S